FEDERAL COMMUNICATIONS COMMISSION

[DA 15-1123]

Consumer Advisory Committee Meeting

AGENCY: Federal Communications Commission.

ACTION: Notice.

SUMMARY: The Commission announces the next meeting date, time, and agenda of its Consumer Advisory Committee (hereinafter the “Committee”). The mission of the Committee is to make recommendations to the Commission regarding consumer issues within the jurisdiction of the Commission and to facilitate the participation of consumers (including underserved populations, such as Native Americans, persons living in rural areas, older persons, people with disabilities, and persons for whom English is not their primary language) in proceedings before the Commission.

DATES: October 26, 2015, 2:00 p.m. to 4:00 p.m.

ADDRESSES: Federal Communications Commission, 445 12th Street SW., Room 4-B516, Washington, DC 20554.

FOR FURTHER INFORMATION CONTACT: Scott Marshall, Consumer and Governmental Affairs Bureau, (202) 418-2809 (voice or Relay), or email Scott.marshall@fcc.gov.

SUPPLEMENTARY INFORMATION: This is a summary of the Commission's document DA 15-1123, released October 6, 2015, announcing the Agenda, Date, and Time of the Committee's Next Meeting.

Meeting Agenda

At its October 26, 2015 meeting, the Committee will consider a recommendation from its Open Internet Order Consumer Disclosure Task Force regarding a proposed Open Internet enhanced transparency rule disclosure format as required by the Open Internet Order (Protecting and Promoting the Open Internet, Report and Order on Remand, Declaratory Ruling, and Order, published at 80 FR 19737, April 13, 2015. In addition, it is expected that the Committee will consider a recommendation presented by its Universal Service Working Group regarding modernization of the Lifeline program. A limited amount of time will be available on the agenda for comments from the public. Alternatively, members of the public may send written comments to: Scott Marshall, Designated Federal Officer of the Committee at the address provided below.

The meeting is open to the public, and the site is fully accessible to people using wheelchairs or other mobility aids. Reasonable accommodations for people with disabilities, such as sign language interpreters, open captioning, assistive listening devices, and Braille copies of the agenda are available upon request. The request should include a detailed description of the accommodation needed and contact information. Please provide as much advance notice as possible; last minute requests will be accepted, but may not be possible to fill. To request an accommodation, send an email to fcc504@fcc.gov or call the Consumer and Governmental Affairs Bureau at 202-418-0530 (voice), 202-418-0432 (TTY).

Federal Communications Commission.
Karen Peltz Strauss,
Deputy Chief, Consumer and Governmental Affairs Bureau.

[FR Doc. 2015-25885 Filed 10-9-15; 8:45 am]

BILLING CODE 6712-01-P